DEPARTMENT OF TRANSPORTATION

Federal Highway Administration

Draft Programmatic Environmental Impact Statement; Garfield, Eagle, Summit, Clear Creek and Jefferson Counties, CO

AGENCY: Federal Highway Administration (FHWA), DOT.

ACTION: Notice of availability.

SUMMARY: In compliance with the National Environmental Policy Act of 1969, the FHWA, in cooperation with the Colorado Department of Transportation (CDOT), have prepared a Draft Programmatic Environmental Impact Statement (PEIS)—a Draft Tier 1 EIS—for proposed transportation improvements to Interstate 70 (I-70) between Glenwood Springs and C-470, traversing five counties in north-central Colorado: Garfield, Eagle, Summit, Clear Creek and Jefferson from approximately mileposts 116 to 260. The Draft PEIS identifies 20 Build Alternatives and the No-Action Alternative, and evaluates their associated environmental impacts. Interested citizens are invited to review the Draft PEIS and submit comments. Copies of the Draft PEIS may be obtained by telephoning or writing either of the contact persons listed below under FOR FURTHER INFORMATION CONTACT. Public reading copies of the Draft PEIS are available at the locations listed under SUPPLEMENTARY INFORMATION.

DATES: A 90-calendar-day public review period will begin on December 10, 2004, and conclude on March 10, 2005. Written comments on the Draft PEIS to be considered must be received by CDOT by March 10, 2005. A series of ten public hearings to receive oral and written comments on the Draft PEIS will be held across the corridor at the locations listed under SUPPLEMENTARY INFORMATION.

FOR FURTHER INFORMATION CONTACT: To request information or copies of the Draft PEIS, and to submit written comments on the Draft PEIS, contact Cecelia Joy, Project Manager, Colorado Department of Transportation, Region 1, 18500 East Colfax Avenue, Aurora, CO 80011, telephone (303) 757-9112; or Jean Wallace, Senior Operations Engineer, Federal Highway Administration, 12300 West Dakota Avenue, Suite 180, Lakewood, CO 80228, telephone (720) 963-3015. Written comments may also be submitted via the project Web site at http://www.i70mtncorridor.com. Please see the SUPPLEMENTARY INFORMATION section for a listing of the available documents, distribution policy and formats in which they may be obtained. The SUPPLEMENTARY INFORMATION section also lists locations where copies of the Draft PEIS are available for public inspection and review.

SUPPLEMENTARY INFORMATION: Hearing Dates and Locations:

• Wednesday, January 12, 2005, Clear Creek High School, 5 p.m. to 8 p.m., Evergreen, Colorado.

• Saturday, January 15, 2005, 1 p.m. to 4 p.m. at the Westin Hotel, Westminster, Colorado.

• Wednesday, January 19, 2005, 4 p.m. to 7 p.m. at County Inn of Grand Junction, Grand Junction, Colorado.

• Wednesday, January 26, 2005, Avon Municipal Building, 4 p.m. to 7 p.m., Avon, Colorado.

• Wednesday, February 2, 2005, Marriott Denver South at Park Meadows, 4 p.m. to 7 p.m., Littleton, Colorado.

• Wednesday, February 9, 2005, Rocky Mountain Village/Easter Seals Handicamp, 4 p.m. to 7 p.m., Empire, Colorado.

• Saturday, February 12, 2005, Hotel Colorado, 1 p.m. to 4 p.m., Glenwood Springs, Colorado.

• Wednesday, February 16, 2005, Jefferson County Fairgrounds, 4 p.m. to 7 p.m., Golden, Colorado.

• Wednesday, February 23, 2005, Four Points Sheraton, 4 p.m. to 7 p.m., Silverthorne, Colorado.

• Saturday, February 26, 2005, The Vintage Hotel, 1 p.m. to 4 p.m., Winter Park, Colorado.

Copies of the Draft PEIS are available in hard copy format for public inspection at:

• CDOT Headquarters, Public Information Office, 4201 E. Arkansas Ave., Denver, CO 80222; (303) 757-9228.

• CDOT Region 1, 18500 E. Colfax Ave., Aurora, CO 80011; (303) 757-9371.

• Irving Street Library, 7392 Irving Street, Westminster, CO 80030; (303) 430-2400, ext. 2303.

• Aurora Central Library, Recreation & Cultural Services, 14949 E. Alameda Parkway, Aurora, CO 80012; (303) 739-6600.

• Denver Public Library, Central Branch, 10 W. Fourteenth Ave. Parkway, Denver, CO 80204; (720) 865-1733.

• Auraria Campus Library, 1100 Lawrence St., Denver, CO 80204; (303) 556-3532.

• Highlands Ranch Library, 9292 Ridgeline Blvd., Highlands Ranch, CO 80129, (303) 791-7703.

• Philip S. Miller Library, 100 S. Wilcox, Castle Rock, CO 80104; (303) 688-7700.

• FHWA Offices, 12300 W. Dakota Ave., Suite 180, Lakewood, CO 80228; (720) 963-3000.

• USDA Forest Service, Regional Office, 740 Simms, Lakewood, CO, 80401; (303) 275-5427.

• Jefferson County Offices, 100 Jefferson County Parkway, Suite 3500, Golden, CO 80419; (303) 271-8470.

• Commissioner's Office, 405 Argentine, Georgetown, CO 80444; (303) 679-2310.

• Tomay Memorial Library, 605 6th Street, Georgetown, CO 80444; (303) 569-2620.

• Clear Creek County Planning Office (Library), 405 Argentine St., Georgetown, CO 80444; (303) 679-2455.

• Gateway Visitor Center, 1491 Argentine St., Georgetown, CO 80444; (303) 569-0289.

• Idaho Springs Heritage Museum and Visitor's Center; 2060 Miner Street, Idaho Springs, CO 80452; (303) 567-4382.

• Idaho Springs Public Library, 219 14th Ave., Idaho Springs, CO 80452; (303) 567-2020.

• U.S. Forest Service, Clear Creek Ranger District, 101 Chicago Creek Road, Idaho Springs, CO 80452; (303) 567-3000.

• Clear Creek High School (Library), 185 Beaver Brook Canyon Road, Evergreen, CO 80439; (303) 679-4601.

• Silver Plume Small Town Hall, 285 Main St., Silver Plume, CO 80476; (303) 569-2363.

• Historic Dumont School House, 150 Dumont Lane, Dumont, CO 80436; open by appointment, (303) 771-3078.

• Fraser Valley Library, 421 Norgren Rd., Fraser, CO 80442; (970) 726-5689.

• Summit County Planning Office, Summit County Commons Bldg. 1st Floor, 37 County Road 1005, Frisco, CO 80443; (970) 668-4200.

• Summit County Public Library, Main Branch, Summit County Commons Bldg., 37 County Road 1005, Frisco, CO 80443; (970) 668-5555.

• Summit County Public Library, North Branch, 651 Center Circle, Silverthorne, CO 80498; (970) 468-5887.

• USDA Forest Service, Dillon Ranger District, 680 River Parkway, Silverthorne, CO 80498; (970) 468-5400.

• Eagle County Engineering Office, 500 Broadway, Eagle, CO 81631; (970) 328-3560.

• Avon Municipal Building, 400 Benchmark Rd., Avon, CO 81620; (970) 748-4035.

• Vail Public Library, 292 W. Meadow Dr., Vail, CO 81657; (970) 479-2185.

• Lake County Public Library, 1115 Harrison Ave., Leadville, CO 80461; (719) 486-0569.

• Pitkin County Library, 120 North Mill St., Aspen, CO 81611; (970) 925-4025.

• CDOT, Region 3, 202 Centennial St., Glenwood Springs, CO 81601; (970) 384-3332.

• Glenwood Springs Public Library, 413 9th St., Glenwood Springs, CO 81601; (970) 945-5958.

• USDA Forest Service, 900 Grand Ave, Glenwood Springs, CO 81602; (970) 945-2521.

• CDOT, Region 3, 222 S. 6th St., Grand Junction, CO 81501; (970) 248-7223.

• Grand Junction Public Library, 530 Grand Ave., Grand Junction, CO 81501; (970) 683-2429.

In addition to the above public repositories, the policy for distribution will be as follows:

• A 2-volume compact disc set will be provided to each entity represented on the Mountain Corridor Advisory Committee (MCAC)/Technical Advisory Committee (TAC), Section 106 consulting parties, and the I-70 Coalition. Upon request, one hard copy of the document will be provided to each entity represented on the MCAC/TAC, the Section 106 consulting parties, and the I-70 Coalition.

The Draft PEIS will also be available for review in the following formats:

• Compact Disc—2 volume set—PDF format (by request).

• Executive Summary only—hard copy (by request).

• The PEIS Web site at http://www.i70mtncorridor.com.

Background

This Draft PEIS focuses on broad approaches to address travel demand and performance of transportation systems within the context of the I-70 corridor communities and environmental setting. At this Tier 1 level of analysis, the Draft PEIS provides an evaluation of a broad range of mode choices and general locations of proposed transportation improvements for I-70 between Glenwood Springs and C-470. The study area extends approximately 144 miles across Garfield, Eagle, Summit, Clear Creek and Jefferson Counties. This Draft PEIS includes an examination of the purpose and need, alternatives under consideration, travel demand, and consistent with a programmatic level of analysis, describes the affected environment, environmental consequences, and identifies mitigation policies for the proposed transportation systems under consideration. Twenty build alternatives and a No-Action Alternative are presented in the Draft PEIS. Of these, a group of nine preferred alternatives have been identified and are under consideration by FHWA and CDOT in the Draft PEIS. After a preferred alternative has been identified in the Final Programmatic EIS, and an alternative is selected in the Record of Decision, subsequent design, environmental analysis, documentation, and review will be prepared in a Tier 2 document, which will include site-specific, project level details.

Comments from interested parties on the Draft PEIS are encouraged and may be presented verbally at a public hearing or may be submitted in writing to the CDOT and/or the FHWA.

The FHWA and CDOT invite interested individuals, organizations, and federal, state, and local agencies to comment on the evaluated alternatives and associated social, economic, or environmental impacts related to the alternatives.

Issued on: December 3, 2004.
Douglas Bennett,
Assistant Division Administrator, Federal Highway Administration, Lakewood, Colorado.

[FR Doc. 04-26921 Filed 12-9-04; 8:45 am]

BILLING CODE 4910-22-P